ENVIRONMENTAL PROTECTION AGENCY

40 CFR Part 52

[KY 139-200307(c); FRL-7449-8]

Approval and Promulgation of Implementation Plans for Kentucky: Source-Specific Revision for Lawson Mardon Packaging; Withdrawal of Direct Final Rule

AGENCY: Environmental Protection Agency (EPA).

ACTION: Withdrawal of direct final rule.

SUMMARY: Due to adverse comment, EPA is withdrawing the direct final rule published December 18, 2002, (see 67 FR 77430) approving a source-specific revision to the State Implementation Plan of the Commonwealth of Kentucky. This revision allows Lawson Mardon Packaging, USA, Corporation to have an alternative compliance averaging period of 30 days instead of the 24-hour averaging period specified by Kentucky air quality regulations. EPA stated in the direct final rule that if EPA received adverse comment by January 17, 2003, the rule would be withdrawn and not take effect. EPA subsequently received adverse comment. EPA will address the comment in a subsequent final action based upon the proposed action also published on December 18, 2002 (see 67 FR 77463). EPA will not institute a second comment period on this action.

DATES: The direct final rule is withdrawn as of February 10, 2003.

FOR FURTHER INFORMATION CONTACT: Michele Notarianni, Air Planning Branch, U.S. Environmental Protection Agency, Region 4, 61 Forsyth Street, SW., Atlanta, Georgia 30303-8960. (404/562-9031 (phone) or notarianni.michele@epa.gov (e-mail).)

List of Subjects in 40 CFR Part 52

Environmental protection, Air pollution control, Intergovernmental relations, Ozone, Reporting and recordkeeping requirements, Volatile organic compounds.

Dated: January 31, 2003.
A. Stanley Meiburg,
Acting Regional Administrator, Region 4.

[FR Doc. 03-3237 Filed 2-7-03; 8:45 am]

BILLING CODE 6560-50-U